DEPARTMENT OF THE INTERIOR

Fish and Wildlife Service

Endangered and Threatened Wildlife and Plants; 5-Year Review of 37 Southeastern Species

AGENCY: Fish and Wildlife Service, Interior.

ACTION: Notice.

SUMMARY: The Fish and Wildlife Service announces 5-year reviews of the Anastasia Island beach mouse (Peromyscus polionotus phasma), Choctawhatchee beach mouse (Peromyscus polionotus allophrys), Perdido Key beach mouse (Peromyscus polionotus trissyllepsis), Lower Keys marsh rabbit (Sylvilagus palustris hefneri), Everglade snail kite (Rostrhamus sociabilis plumbeus), wood stork (Mycteria americana), Culebra giant anole (Anolis roosevelti), bluetail mole skink (Eumeces egregius lividus), sand skink (Neoseps reynoldsi), golden coqui (Eleutherodactylus jasperi), purple bankclimber (Elliptoideus sloatianus), Gulf moccasinshell (Medionidus penicillatus), Ochlockonee moccasinshell (Medionidus simpsonianus), oval pigtoe (Pleurobema pyriforme), shinyrayed pocketbook (Lampsilis subangulata), Chipola slabshell (Elliptio chipolaensis), fat three-ridge (Amblema neislerii), Crenulate lead-plant (Amorpha crenulata), Catesbaea melanocarpa (no common name), Garber's spurge (Chamaesyce garberi), Etonia rosemary (Conradina etonia), Cordia bellonis (no common name), Avon Park harebells (Crotalaria avonensis), beautiful goetzea (Goetzea elegans), Lepanthes eltoroensis (no common name), Mitracarpus maxwelliae (no common name), Mitracarpus polycladus (no common name), Peperomia wheeleri (no common name), wide-leaf warea (Warea amplexifolia), elfin tree fern (Cyathea dryopteroides), Elaphoglossum serpens (no common name), Polystichum calderonense (no common name), Tectaria estremerana (no common name), Thelypteris inabonensis (no common name), Thelypteris verecunda (no common name) and Thelypteris yaucoensis (no common name), and Florida perforate cladonia (Cladonia perforata) under section 4(c)(2) of the Endangered Species Act of 1973 (16 U.S.C. 1531 et seq.), as amended (Act). The purpose of reviews conducted under this section of the Act is to ensure that the classification of species as threatened or endangered on the List of Endangered and Threatened Wildlife and Plants (50 CFR 17.11 and 17.12) is accurate. A 5-year review is an assessment of the best scientific and commercial data available at the time of the review.

DATES: To allow us adequate time to conduct this review, information submitted for our consideration must be received on or before November 27, 2006. However, we will continue to accept new information about any listed species at any time.

ADDRESSES: Information submitted on the Anastasia Island beach mouse, wood stork, Etonia rosemary, and wide-leaf warea should be sent to Sandy MacPherson, Jacksonville Field Office, U.S. Fish and Wildlife Service, 6620 Southpoint Drive South, Suite 310, Jacksonville, Florida 32216, fax 904-232-2404. Information on the Lower Keys marsh rabbit, Everglades snail kite, bluetail mole skink, sand skink, Crenulate lead-plant, Garber's spurge, Avon Park harebells, and Florida perforate cladonia should be sent to Cindy Schulz, South Florida Ecological Services Office, U.S. Fish and Wildlife Service, 1339 20th Street, Vero Beach, Florida 32960, fax 772-562-4288. Information on the Choctawhatchee beach mouse, Perdido Key beach mouse, purple bankclimber, Gulf moccasinshell, Ochlockonee moccasinshell, oval pigtoe, shinyrayed pocketbook, Chipola slabshell, and fat three-ridge should be sent to Gail Carmody, Panama City Field Office, U.S. Fish and Wildlife Service, 1601 Balboa Avenue, Panama City, Florida 32405, fax 850-763-2177. Information submitted on the Culebra giant anole, golden coqui, Catesbaea melanocarpa, Cordia bellonis, beautiful goetzea, Lepanthes eltoroensis, Mitracarpus maxwelliae, Mitracarpus polycladus, Peperomia wheeleri, elfin tree fern, Elaphoglossum serpens, Polystichum calderonense, Tectaria estremerana, Thelypteris inabonensis, Thelypteris verecunda and Thelypteris yaucoensis should be sent to Edwin Muniz, Field Supervisor, Caribbean Field Office, U.S. Fish and Wildlife Service, P.O. Box 491, Boquerón, Puerto Rico 00622, fax 787-851-7440. Information received in response to this notice of review will be available for public inspection by appointment, during normal business hours, at the same addresses.

FOR FURTHER INFORMATION CONTACT: Sandy MacPherson at the Jacksonville, Florida, address above for the Anastasia Island beach mouse, wood stork, Etonia rosemary, and wide-leaf warea (telephone, 904/232-2580, ext. 110, e-mail sandy_macpherson@fws.gov); Cindy Schulz at the Vero Beach, Florida, address above for Lower Keys marsh rabbit, Everglade snail kite, bluetail mole skink, sand skink, Crenulate lead-plant, Garber's spurge, Avon Park harebells, and Florida perforate cladonia (telephone, 772/562-3909, ext. 305, e-mail cindy_schulz@fws.gov); Gail Carmody at the Panama City, Florida, address above for the Choctawhatchee beach mouse, Perdido Key beach mouse, purple bankclimber, Gulf moccasinshell, Ochlockonee moccasinshell, oval pigtoe, shinyrayed pocketbook, Chipola slabshell, and fat three-ridge (telephone, 850/769-0552, ext. 225, e-mail gail_carmody@fws.gov); and Edwin Muniz, at the above Boquerón, Puerto Rico, address for the Culebra giant anole, golden coqui, Catesbaea melanocarpa, Cordia bellonis, beautiful goetzea, Lepanthes eltoroensis, Mitracarpus maxwelliae, Mitracarpus polycladus, Peperomia wheeleri, elfin tree fern, Elaphoglossum serpens, Polystichum calderonense, Tectaria estremerana, Thelypteris inabonensis, Thelypteris verecunda and Thelypteris yaucoensis (telephone, 787/851-7297, ext. 228, e-mail edwin_muniz@fws.gov).

SUPPLEMENTARY INFORMATION: Under the Act, the Service maintains a list of endangered and threatened wildlife and plant species at 50 CFR 17.11 (for wildlife) and 17.12 (for plants) (collectively referred to as the List). Section 4(c)(2)(A) of the Act requires that we conduct a review of listed species at least once every 5 years. Then, on the basis of such reviews, under section 4(c)(2)(B), we determine whether or not any species should be removed from the List (delisted), or reclassified from endangered to threatened or from threatened to endangered. Delisting a species must be supported by the best scientific and commercial data available and only considered if such data substantiate that the species is neither endangered nor threatened for one or more of the following reasons: (1) The species is considered extinct; (2) the species is considered to be recovered; and/or (3) the original data available when the species was listed, or the interpretation of such data, were in error. Any change in Federal classification would require a separate rulemaking process.

The regulations at 50 CFR 424.21 require that we publish a notice in the Federal Register announcing those species currently under active review. This notice announces our active review of the following species that are currently federally listed as endangered: Anastasia Island beach mouse, Choctawhatchee beach mouse, Perdido Key beach mouse, Lower Keys marsh rabbit, Everglade snail kite, wood stork, Culebra giant anole, Gulf moccasinshell, Ochlockonee moccasinshell, oval pigtoe, shinyrayed pocketbook, fat three-ridge, Crenulate lead-plant, Catesbaea melanocarpa, Etonia rosemary, Cordia bellonis, Avon Park harebells, beautiful goetzea, Lepanthes eltoroensis, Mitracarpus maxwelliae, Mitracarpus polycladus, Peperomia wheeleri, wide-leaf warea, elfin tree fern, Elaphoglossum serpens, Polystichum calderonense, Tectaria estremerana, Thelypteris inabonensis, Thelypteris verecunda, Thelypteris yaucoensis, and Florida perforate cladonia. This notice also announces our active review of the following species that are currently federally listed as threatened: bluetail mole skink, sand skink, golden coqui, purple bankclimber, Chipola slabshell, and Garber's spurge.

The List is found in 50 CFR 17.11 (wildlife) and 17.12 (plants) and is also available on our Internet site at http://endangered.fws.gov/wildlife.html#Species. Amendments to the List through final rules are published in the Federal Register

What information is considered in the review?

A 5-year review will consider the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List, and improved analytical methods.

Definitions Related to This Notice

The following definitions are provided to assist those persons who contemplate submitting information regarding the species being reviewed:

A. Species includes any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How do we determine whether a species is endangered or threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

What could happen as a result of this review?

If we find that there is new information concerning any of these 37 species indicating that a change in classification may be warranted, we may propose a new rule that could do one of the following: (a) Reclassify the species from endangered to threatened (downlist); (b) reclassify the species from threatened to endangered (uplist); or (c) delist the species. If we determine that a change in classification is not warranted, then the species will remain on the List under its current status.

Public Solicitation of New Information

We request any new information concerning the status of any of these 37 species. See “What information is considered in the review?” heading for specific criteria. Information submitted should be supported by documentation such as maps, bibliographic references, methods used to gather and analyze the data, and/or copies of any pertinent publications, reports, or letters by knowledgeable sources. Our practice is to make comments, including names and home addresses of respondents, available for public review during normal business hours. Individual respondents may request that we withhold their home addresses from the supporting record, which we will honor to the extent allowable by law. There also may be circumstances in which we may withhold from the supporting record a respondent's identity, as allowable by law. If you wish us to withhold your name and/or address, you must state this prominently at the beginning of your comment, but you should be aware that the Service may be required to disclose your name and address pursuant to the Freedom of Information Act. However, we will not consider anonymous comments. We will make all submissions from organizations or businesses, and from individuals identifying themselves as representatives or officials of organizations or businesses, available for public inspection in their entirety.

Authority

This document is published under the authority of the Endangered Species Act (16 U.S.C. 1531 et seq.).

Dated: September 14, 2006.
Cynthia K. Dohner,
Acting Regional Director, Southeast Region.

[FR Doc. E6-15824 Filed 9-26-06; 8:45 am]

BILLING CODE 4310-55-P